OFFICE OF MANAGEMENT AND BUDGET

Office of Federal Procurement Policy

Acquisition Data Management

AGENCY: Office of Federal Procurement Policy, Office of Management and Budget.

ACTION: Proposed new Office of Management and Budget Circular No. A-XXX, “Strategic Management of Acquisition Data and Information”.

SUMMARY: The Office of Federal Procurement Policy (OFPP) in the Office of Management and Budget (OMB) is proposing a new OMB Circular, Strategic Management of Acquisition Data and Information. The purpose of this Circular is to improve agency access to reliable data and information. Using relevant acquisition data throughout the acquisition lifecycle facilitates successful contracting outcomes. This Circular establishes a centralized data management strategy to create robust knowledge and data banks, develop standard data sharing processes, and improve agency access to tools and resources for acquisition-related decision-making.

DATES: Interested parties should submit comments in writing to the address below on or before January 16, 2024.

ADDRESSES: Submit comments to the Federal eRulemaking Portal: https://www.regulations.gov. Follow the instructions on the portal for submitting comments. Instructions: Please submit comments only and cite “Proposed New OMB Circular A-XXX” in all correspondence. All comments received will be posted, without change or redaction, to www.regulations.gov, so commenters should not include information that they do not wish to be posted (for example because they consider it personal or business confidential). Additionally, the OMB System of Records Notice, OMB Public Input System of Records, OMB/INPUT/01 includes a list of routine uses associated with the collection of this information.

FOR FURTHER INFORMATION CONTACT: Kristen Wilson, +1 (202) 881-9426, kristen.h.wilson@omb.eop.gov or send your email to MBX.OMB.OFPPv2@OMB.eop.gov, Office of Federal Procurement Policy, 725 17th Street NW, Washington, DC 20006, at 202-395-6805.

SUPPLEMENTARY INFORMATION: There are tens of billions of acquisition data points residing in over 170 contract writing systems (including legacy systems) and over 15 payment processing platforms across the Federal enterprise. Historically, much of this data has been collected and managed by agencies. Agencies have used their resources to build tools within their agency, harnessing internal data and databases, but this has often led to duplicative tools and efforts and a lack of coordination across agencies. This approach has limited Government-wide capacity for analytics, insights, and efficiency gains other than the System for Award Management and the Federal Procurement Data System, which generally provide aggregate data but very little pricing and best practices information.

To address these challenges, the proposed Circular would establish a new acquisition data management policy of promoting Hi-Definition (Hi-Def) acquisitions where agencies are able to acquire supplies or services using acquisition data that is easily accessed and available at the time of need. To that end, OMB is creating a Hi-Def acquisition framework to promote data interoperability, sharing of acquisition data between agencies, and enterprise-wide data analysis. This framework is supported by a Hi-Def acquisition data environment that includes a scalable technical architecture and solution to store, access, utilize, share, and archive acquisition data without having to duplicate data, tools, or effort. Hi-Def acquisitions are a critical component of the acquisition community's work to buy as an organized enterprise, as it will provide access to the breadth and depth of information needed to support the activities of the largest and most sophisticated buyer in the world.

Achieving a Hi-Def environment will require greater transparency and collaboration in agency data systems planning and investment decisions where these activities would impact the Government's ability to achieve data interoperability for information that is critical or can otherwise significantly improve acquisition decision-making at both the Government-wide and agency-wide level. To this end, the Circular (1) establishes interagency governance, (2) defines agency roles and responsibilities, and (3) supports the design and development of solutions to drive interoperability, allowing systems to connect and share acquisition data wherever they reside within the Federal government without duplication.

Of particular note, the proposed Circular would:

Require agencies to prepare annual strategic plans. Agencies will report on steps to address general data management stewardship, government-wide priority initiatives and individualized acquisition data hurdles or responsibilities that may impact other agencies.

Build appropriate centralization. The Circular will support centralized standards, knowledge banks, and data-sharing tools using established and strengthened governance. Existing standards and processes will be updated, modernized, and enforced through greater transparency and interoperability. Data sharing tools will allow agencies to maintain existing systems but create the ability to pull data from the source where it resides for much improved analytics and insights. Shared solutions will increase efficiency across all agencies.

Promote data-sharing technologies. The Circular prepares agencies for an interoperable future where all acquisition data can be shared and accessed. Current Hi-Def efforts are being conducted through pilots on a voluntary basis to address challenges in interoperability. The Circular anticipates that agencies will begin exploring, planning for, and building application programming interfaces (APIs) and other access points while and working within the governance structure to develop appropriate standards and processes. It provides a mechanism to enable agencies to ask for further direction and resources in these endeavors from OMB and through the budget process. Increased collaboration between agencies will facilitate knowledge and best practices sharing from agencies that have already explored the implementation of these tools internally, as well as the related pilots.

Establish policies for agency collection and sharing of their acquisition data. Contract cost efficiencies increase when buyers are able to improve their negotiating posture with access to standardized transactional data that can give them insight into prices paid and favorable contract terms and conditions. Accordingly, with limited exception, agencies will be expected to centrally collect acquisition data, such as, but not limited to, market research, contract documents such as statements of work, performance work statements, statements of objective, terms, conditions, prices paid for commodities or services, and other data or information that a contracting official, program official or other member of the integrated product team would use during the acquisition lifecycle as part of their stewardship responsibility to obtain best value for the Federal government. Agencies should share their data with GSA and other agencies responsible for data collection so that the information may be analyzed by data and market experts and made available for agency use, including through on-demand tools that the agencies create. GSA and other data collection agencies will use data sharing agreements, as appropriate, with data protection and security protocols to prevent against the unauthorized disclosure of data. OMB will work with agencies to develop data sharing agreement templates to address how information is accessed, used, and shared.

Establish an interagency working group. In order to determine the best implementation of data sharing, such as APIs, across contract writing systems, the working group would bring together contract writing system managers, computer engineers, and acquisition data experts. As an initial step, agencies would conduct an initial assessment of their contract pricing and invoicing data to establish an agency baseline and determine the variation of starting points between agencies.

Facilitate other collaborative actions and workforce development with data management. Agencies would be expected to actively contribute to existing knowledge portals on innovative techniques and emerging technology and support expansion, implementation, and promotion of acquisition data management training and certification efforts for the acquisition workforce.

Christine J. Harada,
Senior Advisor, Office of Federal Procurement Policy.

PROPOSED CIRCULAR NO. A-XXX

TO THE HEADS OF EXECUTIVE DEPARTMENTS AND ESTABLISHMENTS

SUBJECT: Strategic Management of Acquisition Data and Information

1. Purpose: The purpose of this Circular is to improve agency access to reliable data and information. Using relevant acquisition data throughout the acquisition lifecycle facilitates successful contracting outcomes. This Circular establishes a centralized data management strategy to create robust knowledge and data banks, develop standard data sharing processes, and improve agency access to tools and resources for acquisition-related decision-making.

The Federal government has taken significant steps to improve the collection and use of data related to contracting transactions, including amounts obligated, information about how contracts are awarded, and the identity of the awardees. For example, the Integrated Award Environment (IAE), through the System for Award Management (SAM), provides important information to the acquisition community and the public and is integral to agencies' management of contracting processes.

However, other important acquisition-related data and information are not being shared Government-wide—or are underutilized. This is often because such information resides in disparate agency systems, include non-standardized data elements and definitions, across public and commercial domains, and therefore are not generally interoperable across agencies. For example, line item pricing information may be kept in agency-specific contract writing systems, in one or more payment platforms, or in internal or external databases that are not easily accessible. As a result, acquisition professionals across the Federal government may not have access to key information for contract negotiations or for critical contract management functions.

The Office of Management and Budget seeks to promote Hi-Definition (Hi-Def) acquisitions where agencies are able to acquire supplies or services using relevant acquisition data that is easily accessed and available when it is needed. To that end, OMB is creating a Hi-Def acquisition framework to promote data interoperability, sharing of acquisition data between agencies and enterprise-wide data analysis. This framework is supported by a Hi-Def acquisition data environment that includes a scalable technical architecture and solution to store, access, utilize, share, and archive acquisition data without having to duplicate data, tools, or effort. Together, the Hi-Def framework and data environment will provide a coordinated, Government-wide approach to accessing, using, and managing acquisition data and developing and deploying innovative tools that use this information to better support the acquisition lifecycle, such as GSA's Transactional Data Reporting (TDR) program which allows for improved pricing and related data analytics that support enhanced decision-making. The Hi-Def framework and data environment will be built around the following three management and organizing principles:

(1) continuously identify areas of need through interagency governance structures including existing committees, such as the Procurement Committee for E-government (PCE) and other working groups;

(2) assess agency compliance with existing standards, current data collection and interoperability efforts; and identify proper acquisition data subject matter experts for roles defined in section 3 and Appendix C; and

(3) design and develop agency solutions using human-centered design principles to drive interoperability and scalability of acquisition data through existing technology inventories, data standards, data sharing agreements, as appropriate, and yearly acquisition data strategic planning to support the initiative.

2. Policy: Agencies should utilize acquisition data management practices that promote interoperability, scalability, and usability across the Government.¹ These practices should make acquisition data easily accessible when it is needed to inform decision-making throughout the acquisition lifecycle.

¹ Such requirements and assessment criteria will be available at https://www.acquisition.gov.

3. Responsibilities: This policy will be implemented in accordance with the following responsibilities.

a. OMB—With the support of the Government-wide governance structures identified in Appendix C, OMB is responsible for the following:

i. Provide direction to agencies for the annual creation of a strategic plan to prioritize acquisition data management activities. OMB, in collaboration with the working group established pursuant to section 6a, will provide direction to agencies for the creation of strategic plans that adequately address the agency's acquisition data resources and infrastructure and the status of the agency's activities to implement Government-wide priorities and agency-specific priorities.

ii. Develop standards, as necessary, to support transactional pricing data or any other transactional activity requiring standardization. OMB will identify minimum transactional pricing data elements (e.g., CLIN standards) for collection and transmission that would minimize agency burden while providing insight at a government-wide level. OMB will consider the commonalities identified from the initial data assessment performed by agencies as a basis for standardization.

iii. Require appropriate information sharing and collaboration. Agencies must share information using proper data security to support greater transparency, and inform buying decisions for the Federal enterprise. OMB will collaborate with governance groups and agencies to prioritize information sharing needs and capabilities and to develop appropriate data sharing agreement templates.

b. Agencies—Agencies are responsible for taking the following actions in furtherance of the acquisition data management policies established by this Circular:

i. Create a strategic plan to prioritize and resource their acquisition data management activities, consistent with direction from OMB. Agencies shall annually evaluate and document results of assessments along with any new agency policies and processes in an Annual Acquisition Data Strategic Plan as outlined in Appendix E, using the template provided ² to support agency budget planning and investment discussions.

² Template will be provided on a yearly basis and found on https://www.acquisition.gov/datainitiatives.

ii. Integrate best business practices into agency data strategy for the generation, collection, use, sharing, and improvement of data. Agencies should utilize the Federal Integrated Business Framework (FIBF) ³ in developing their Annual Acquisition Data Strategic Plans and share best business practices with GSA who will make the information publicly available and easily accessible.

³ Federal Integrated Business Framework | Federal Shared Services, https://ussm.gsa.gov/fibf/.

iii. Collect data centrally and be prepared, upon request by OMB and the Category Manager, to share their acquisition data, as appropriate, and on an agreed upon cadence.⁴ Centralized data collection within the agency is critical to the agency's ability to readily share their acquisition data governmentwide. Agencies that are responsible for collecting agency data must use appropriate protocols to prevent the unauthorized disclosure of data. Data sharing agreements may be used to establish how information is accessed, used, and shared. Agencies should not agree to terms and conditions with their contractors that broadly prohibit the sharing of their acquisition data with other Government agencies, except where sharing is prohibited by law or where the contract identifies the data or information is proprietary. OMB may request an explanation from the agency's Senior Procurement Executive when the agency withholds requested acquisition data that is not otherwise legally prohibited from disclosure. Equally important, agencies must assume responsibility for making data-driven decisions and for providing their acquisition workforce with critical information needed to negotiate contracts in the best interest of taxpayers. Agencies should work with GSA on the development and adoption of Government-wide data analytics tools and taking steps to ensure members of the workforce with responsibilities for managing common spending are trained in using these tools.

⁴ Office of Mgmt. & Budget, Exec. Office of the President, OMB M-19-13, Category Management: Making Smarter Use of Common Contract Solutions and Practices (2019), available at https://www.whitehouse.gov/wp-content/uploads/2019/03/M-19-13.pdf.

iv. Actively contribute to existing knowledge portals on innovative techniques and emerging technology. Agencies should actively collect and share information and data about their innovative activities through organized means, including but not limited to the Inventory of Emerging Technologies, the Periodic Table of Acquisition Innovations, and future knowledge management tools in the Hi-Def environment, that contribute to the collective advancement of a more effective acquisition system.

v. Support expansion, implementation, and promotion of acquisition data management training and certification efforts for the acquisition workforce. Agencies should work with sources such as, but not limited to, the Federal Acquisition Institute (FAI) ⁵ and the Defense Acquisition University (DAU) ⁶ to build data analysis and related skills as a core acquisition workforce capability.

⁵ FAI Home https://fai.gov/.

⁶ DAU Home https://www.dau.edu/.

c. Electronic Invoicing Providers—Electronic Invoicing Providers are responsible for providing electronic interfaces. Agencies shall ensure compliance with OMB Memorandum M-15-19 ⁷ and successor policies, directing all Federal Shared Service Providers (FSSPs) and other electronic invoice solution providers to integrate with IAE and develop electronic interfaces.

⁷ Office of Mgmt. & Budget, Exec. Office of the President, OMB M-15-19, Improving Government Efficiency and Saving Taxpayer Dollars Through Electronic Invoicing (2015), available at https://www.whitehouse.gov/wp-content/uploads/2019/04/M-19-15.pdf.

4. Authorities—OMB issues this Circular pursuant to the Office of Federal Procurement Policy Act (41 U.S.C. Chapter 7); the Clinger Cohen Act (also known as “Information Technology Management Reform Act of 1996”); and 31 U.S.C. Ch. 5.

5. Effective Date, Applicability and Scope: The Circular is effective upon publication in the Federal Register. The policies in this Circular apply to all Federal agencies ⁸ and shall only be used for unclassified data.

⁸ For purposes of this Circular, “agency” is defined in 41 U.S.C. 133.

6. Transition: The following phase-in actions shall be taken to help agencies prepare for the responsibilities enumerated in section 3.

a. Within 90 days of the effective date of the Circular, OMB will establish a working group, that falls under the jurisdiction of the Procurement Committee for E-Government. OMB will require agencies, within 45 days of the effective date of the Circular, to identify, in consultation with their PCE representative, one or more government acquisition system technical experts who are knowledgeable on making data machine-readable, in an open format, and available to computer applications to promote interoperability and system integration (i.e. exposing data through application programming interfaces (APIs)); the agency contract writing system(s) and associated interfaces; agency electronic invoicing solution; and information technology infrastructure. OMB will further require that working group members:

i. have the requisite technical developmental expertise to focus on the technical solutions to support the identified areas of need and develop formal communications of technical requirements for software vendors;

ii. collaborate with the Federal Acquisition Regulatory Council and other acquisition policy organizations identified by OFPP and with governance groups identified in Appendix C; and

iii. review previous efforts, if any, to accomplish similar initiatives in these areas. Agencies shall identify a working group member as the lead for the initial assessment to take place in the first year after the release of this policy.

The working group's initial priority will be to support agencies in their individual assessments of the acquisition data environment, including through the hosting of workshops, and identify areas of need arising out of this assessment.

b. Within one year of the effective date of this Circular, agencies shall perform an initial one-time baseline assessment of their acquisition data management capabilities. The assessment shall focus, at a minimum, on acquisition data principles, reduction of duplicative efforts, data sharing capabilities, and actions to exchange innovative practices and solutions. Agencies shall complete and submit an assessment of and a roadmap for acquisition data systems, structures, and elements involving invoicing, contract writing systems, and transactional pricing data. OMB will develop a template to support the assessment covering the following information:

i. Analysis of the current collection of transactional pricing data (i.e., contract line-item data) including existing systems, analytical capabilities, reporting requirements, and, if not currently being collected by a vendor, their level of effort and required resources if changes are needed to collect that data;

ii. Roadmap for making existing and new acquisition data machine-readable, in an open format, and available to computer applications to promote interoperability and system integration, following direction from the working group, governance, and policy while coordinating across agencies using the same or similar systems;

iii. Adherence to the existing Federal Electronic Invoicing Data Elements Standards mandatory data elements;

iv. The extent of unstructured acquisition data in contract writing systems that are not in a machine-readable format and would be unable to be transmitted via API (e.g. “flat” file PDFs, contract clauses, or additional scanned items that are not machine readable). The focus here is data that cannot easily be transformed to be machine readable. For example, line item pricing information may be kept in agency-specific contract writing systems, in one or more payment platforms, or in internal or external databases that are not easily accessible; and,

v. Existing and planned capabilities to share data centrally within the agency and to share data with other agencies

7. Attachments.

a. Appendix A—Definitions

b. Appendix B—Examples of Hi-Def Applications

c. Appendix C—Governance

d. Appendix D—Assuring Uniform Implementation and Data Integrity

e. Appendix E—Documenting Agency Planning

Appendix A. Definitions

Acquisition—the acquiring by contract with appropriated funds of supplies or services (including construction) by and for the use of the Federal Government through purchase or lease, whether the supplies or services are already in existence or must be created, developed, demonstrated, and evaluated. Acquisition begins at the point when agency needs are established and includes the description of requirements to satisfy agency needs, solicitation and selection of sources, award of contracts, contract financing, contract performance, contract administration, and those technical and management functions directly related to the process of fulfilling agency needs by contract. (Source: FAR 2.101 5/26/2022). For the purposes of this Circular, acquisition and procurement are used interchangeably.

Acquisition data—data or information that a contracting official, program official, or other member of the integrated product team would use during the acquisition lifecycle as part of their stewardship responsibility to obtain best value for the Federal Government, such as, but not limited to, market research, contract documents such as statements of work, performance work statements, and statements of objective, terms, conditions, and prices paid for commodities or services.

Acquisition data sharing agreement—a document that creates an understanding between two or more agencies on how acquisition data will be accessed, used, and shared, including an understanding of the overall requirements, permissions, procedures, and limitations on sharing to ensure compliance with applicable law.

Acquisition lifecycle—end-to-end management and execution of programs/contract and projects. The lifecycle begins with the identification of a business need and ends with program/contract closeout.

Data integrity—data integrity refers to the accuracy, entireness, and reliability of data both in its physical location and during transmission and throughout the stages of generation, collection, use, sharing, and improvement, which summarize the Federal Data Lifecycle.

Hi-Definition (Hi-Def) acquisition—the acquiring of supplies or services using relevant acquisition data that is easily accessed and consumed at the time of need, supported by a governance framework of standards and policies that promote data interoperability, secure sharing of acquisition data between agencies, and enterprise-wide data analysis to inform government-wide and individual agency procurements, and a data environment that includes a scalable technical architecture and solution to store, access, utilize, share, and archive acquisition data without having to duplicate data, tools, or effort.

Integrated Award Environment (IAE)—a government-wide initiative administered by the General Services Administration that consists of a suite of systems and processes supporting parts of the Federal awarding lifecycle. The IAE facilitates the awards processes in multiple online systems, including the System for Award Management (SAM), that each play a role in the awards lifecycle. Those systems are used for registering to do business with the Federal government, listing contract opportunities, reporting performance, analyzing contract data, and more.

Transactional data reporting (TDR) program—a data collection and reporting system that simplifies the reporting process for contractors and improves the accuracy of pricing information. By collecting transactional data, the GSA can better analyze pricing trends and ensure that government customers are receiving fair and reasonable prices.

Appendix B. Examples of Hi-Def Applications

This appendix provides illustrative examples of how a future Hi-Def environment will benefit the acquisition lifecycle, agency planning and budgeting. The adoption and implementation of these and other applications shall be subject to execution of the responsibilities outlined in section 3 of this Circular including. input from the working group established pursuant to section 6 and existing governance bodies.

Acquisition lifecycle phase | Examples of benefits from a hi-def environment
Business Analysis and Acquisition Planning | • Find and compare information from different agencies on— ○ Requirements Documents (Statements of Work, Performance Work Statements, Statement of Objectives).
| ○ Subcontracting plans.
| ○ Labor prices.
| ○ Suppliers.
| ○ Contract Type(s).
| ○ Contract prices paid.
| ○ Transactional data.
| ○ Other relevant contract deliverables.
| • Use a script/code to read, index, and search unstructured data.
| • Customization using existing contract language.
Package Preparation | • Utilize reusable and customizable tools and artifacts, such as templates and macros for items such as task orders, delivery orders and BPA calls. • Look at previous calls within an existing BPA or across other BPAs within separate packages.
| • Review terms and conditions.
Source Selection | • View past performance data (e.g., Acq360).
| • See credit ratings, evaluate contractor responsibility, and view financial statements from a commercial subscription service.
Performance | • Linking SAM.gov registrations with invoice processing platforms.
| • Ability to perform contract modifications within the environment.
| • Enhanced performance evaluations that offer more targeted questions and can be tailored for product or service contracts.
| • Ability for CO to generate and communicate data needs for the COR to complete and use for invoice payment or building past performance. This feedback is then reincorporated into earlier phases of the acquisition lifecycle.
| • Review subcontract performance and small business utilization for subcontractors.
| • Purchase card data over the micro-purchasing threshold.

Appendix C. Governance

Creating and maintaining a Hi-Def data environment in a vast and complex acquisition ecosystem requires a strong governance structure that addresses all facets of the acquisition data lifecycle—i.e., generation, collection, use, sharing, and improvement.

Acquisition governance, including that which falls outside of the scope of Hi-Def, shall be carried out using the structures described below. These groups below have previously been established between agencies through charters, but have not been officially acknowledged and defined in OMB policy. Agencies shall ensure that their current representatives selected for each governance structure listed below or established in support of the goals of the Circular possess the necessary skills and abilities to make recommendations and decisions that impact the generation, collection, use, sharing, and improvement of agency data. As Hi-Def areas grow, additional working groups may be established.

I. The Award Committee for E-Government (ACE)—The ACE serves as the executive steering committee that collaborates with OMB in developing the vision, strategy, and scope for data management tools and capabilities supporting the Federal award process (both acquisition and financial assistance).

A. Composition—the ACE consists of seven Departments identified by OMB. Three Departments represent the acquisition community, three represent the financial assistance community, and one has significant equity in both communities and is the liaison with the Chief Financial Officers Council (CFOC). Advisory members may be added based on the focus of the activities and/or strategies. OMB, OFPP, and the Office of Federal Financial Management (OFFM) are permanent advisory members (non-voting).

B. Leadership—The ACE leadership consists of two Co-chairs, one of whom is from the Chief Acquisition Officers Council (CAOC) to represent the Federal acquisition community (primary focus on procurement), and one representing the financial assistance community. Co-chairs are responsible for organizing quarterly meetings, including location, logistics, and development of agenda with support from OMB or another agency. The Co-chairs are appointed by OMB.

II. The Procurement Committee for E-Government (PCE)—The PCE serves as the primary interagency body advising OMB on acquisition data with a particular focus on the procurement process. The PCE provides recommendations, priorities, and reaches implementation decisions that consider the policy, operational, technological, and change management aspects necessary to effect positive change in the efficiency and effectiveness of the use of technology and data in the Federal acquisition and procurement processes.

A. Composition—The PCE consists of one member from each of the 24 Executive Branch Agencies as defined by the CFO Act as well as a member representing the Small Agency Council (SAC). OMB is a permanent advisory (non-voting) member. The membership will provide strategic advice and recommendations that may result in Federal-wide policy, regulatory, statutory, business process, or information technology changes per 41 U.S.C. 1122. As such, PCE members must be of sufficient seniority and experience levels to address matters in the context of the full Federal environment as well as speak with authority and commitment on behalf of their agency. There are various working groups under the PCE.

B. Leadership—The PCE will be co-chaired by leaders from two executive branch organizations determined by OMB in collaboration with the PCE membership. A senior analyst from OFPP will serve as a senior advisor and ad-hoc co-chair, as needed. The PCE will nominate three members to represent the acquisition and procurement communities on the ACE, one as co-chair and two as voting members.

III. Change Control Board (CCB)—The CCB serves as the tactical layer of governance to support the operations, maintenance, and modernization of the centralized fee-for-service systems. The CCB is responsible for serving as liaison between the agency and the IAE, articulating the agency's position on requirements and changes to the IAE, understanding the relationship between agency systems and those in the IAE, understanding the functional aspects of all the applications in the IAE, and voting on behalf of their agency on proposed system changes. As the tactical layer of governance with the most familiarity with operations, the CCB is critical to ensuring the technology matches policy and operational needs.

A. Composition—The CCB consists of voting members from the 24 CFO Act agencies and non-voting members from the SAC. Each CFO Act agency is asked to appoint up to three members (one primary voting member and two alternates if desired). The appointments must be made jointly by the agency SPE and the senior agency official responsible for financial assistance in order to facilitate robust representation. Each CCB member is responsible for voting on behalf of their agency and must:

1. Understand how federal award regulations, policy, and proposed system changes will impact agency operations, systems, and workforce;

2. Possess a high-level familiarity with the operational and functional aspects of all systems in the IAE;

3. Understand the relationship between IAE and agency systems and how any changes will impact the agency and awarding processes;

4. Ensure sufficient time and availability to appropriately prepare for and attend all CCB meetings and working groups;

5. Appropriately and consistently communicate information and changes produced by the IAE throughout their agency.

Appendix D. Ensuring Uniform Implementation and Data Integrity

Data integrity refers to the accuracy, completeness, and reliability of data in its physical location, during transmission, and throughout the stages of generation, collection, use, sharing, and improvement, which support the Federal Data Lifecycle (see Figure 1). Data integrity is maintained through compliance with laws, policies, and standards established by governance. The integrity of the Federal acquisition process, including budgeting for, planning, managing, and closing out contracts that support programs, depends on the quality and availability of data. Innovation leads to ongoing business process improvements, requiring regular assessments of processes and data against established standards. The standardized processes and data will drive strong foundations across the Federal acquisition enterprise, while encouraging and enabling agency innovation and agility in acquisition planning, management, and operations.

Data Roles

This policy builds on the Federal Data Lifecycle by organizing its data roles into the five phases of the acquisition data lifecycle: Generate, Collect, Share, Use and Improve. In addition, privacy and security are roles that affect every aspect of acquisition data, and agencies should ensure that the most current data protection methodologies are being used and that all applicable laws and regulations are being followed.

• Generate—

○ Define: Identify agency and stakeholder needs for acquisition data of sufficient quality for intended uses

○ Coordinate: Assess the ability of acquisition data resources and infrastructure to meet agency and stakeholder needs

• Collect—

○ Collect: Organize, plan, and execute acquisition data collections and acquisitions to meet agency and stakeholder needs

○ Curate: Organize, refine, and maintain agency acquisition data resources with sufficient quality to meet agency and stakeholder needs

• Share—Access: Identify and develop multiple acquisition data access methods for agency staff and stakeholders

• Use—

○ Analyze: Optimize the ability of staff and stakeholders to use agency acquisition data to generate insights

○ Visualize: Present acquisition data insights for consumption by all users, stakeholders, and leaders for their intended needs

○ Disseminate: Provide multiple avenues for release of acquisition data and insights

• Improve—Implement & Assess: Maximize the use of acquisition data for decision-making, accountability, and the public good by continuously improving the acquisition data process

Vision for Data Integrity

The governance model identified in Appendix C supports efforts to identify, develop, and implement common business processes, data, and standards that support the federated model. This includes assessing existing standards instituted at an agency level for their potential application to the broader federal acquisition community. The governance groups also regularly assess and provides recommendations for how shared tools or capabilities in the Hi-Def or regulatory-based environment (e.g., the IAE) are meeting agency operational needs. The future Hi-Def environment will make possible a seamless flow of data from authoritative sources to the point of need. Data will only need to be entered once and will be available for use at any point in the acquisition lifecycle consistent with applicable regulations and policies through implemented machine-readable data, in an open format, and available to computer applications to promote interoperability and system integration such as APIs.

As new regulations or policies are developed, new data may be required; ongoing processes to review how best to collect this data from new or existing sources should be put into place, including a review of the quality, security, and integrity of those data. Business process re-engineering may be required to avoid manual or redundant processes, improve quality, and make data available at the time of need. Reporting requirements may need to be adjusted or integrated as a result of increased data availability. Agencies must strategically plan how various Federal-wide and agency specific efforts can be harmonized and leveraged to avoid duplication of effort, costs, and diminished data quality resulting from multiple instances of similar data across an agency.

PCE Responsibilities—Quality Technology and Data

The processes and measures for assessing the uniform implementation of standards that is core to this vision will be the responsibility of the PCE (Appendix C). The common technology tools supporting Federal acquisition and the resulting procurement data will be driven by the PCE. The PCE will ensure that applicable regulations and policy are reflected in any technologies, processes, systems, and data to reduce agency burden and ensure quality data are available for downstream use.

Agency Responsibilities—Quality Technology and Data

In the distributed procurement information technology environment, agencies have responsibilities to generate data consistent with procurement policy, standards for business processes, data, and interoperability. Federal agencies in the Executive Branch must manage data consistent with statutes, regulations, and OMB policies. Agency CAOs, Senior Procurement Executives (SPEs), CDOs, Chief Financial Officers (CFOs), CIOs, and Budget Officers must collaborate to:

• Assess the feasibility of building and/or maintain appropriate and secure APIs to permit sharing and interoperability of procurement data and are developed through the working group and after the initial data assessment period;

• Promote best business practices of appropriate data hygiene, data principles, and data standards as developed by the PCE;

• Further innovation and efficiency in the Federal acquisition system by leading or actively participating in the development and implementation of emerging technology tools that align with policy; and,

• Actively develop professionals with skills in Federal Acquisition Regulations (FAR)-based data analytics for decision-making.

Data Security and Quality Control

Building security and fraud protection aspects into the management of procurement data will ensure usable data. This is a responsibility across the Federal enterprise and requires due diligence at all levels. Hi-Def and IAE data will only be useful if it is accurate, timely, definable, and available in real-time. The maintenance of an Acquisition Data & Process Dictionary (ADD),⁹ managed by the PCE, will resolve discrepancies among models and support uniform implementation of policy-based terminology. Such a dictionary will provide consistency across the Federal Government and identify and fill in gaps if existing data models do not capture the full acquisition lifecycle. The dictionary helps to build a foundation against which agencies can map existing tools and processes throughout the acquisition lifecycle. Integrating the standards and processes identified by the PCE, for example those defined in the FIBF, provides a common starting place for all agencies. Common business process and data definitions can be made accessible and transparent for many users in accordance with PCE identified guidance.

Validation and Verification (V&V) of the acquisition data is paramount to quality control. V&V aims to ensure both completeness and accuracy of select data. The PCE will update the existing parameters and methods for annual V&V every 5 years to align with policy, regulatory and agency needs. The most recent memoranda, stored: “Improving Federal Procurement Data Quality—Guidance for Annual Verification and Validation,” ¹⁰ (May 2011), and “Improving Small Business Procurement Data—Quality and Process,” ¹¹ (November 2011). This cadence of review and updates permits the longitudinal analysis and continuous improvement.

¹⁰ Improving Federal Procurement Data Quality—Guidance for Verification and Validation.

¹¹ Improving Small Business Procurement Data—Quality and Process.

Appendix E. Annual Agency Planning Requirements

Strategic and operational planning by agencies, including budget planning, is essential to an interoperable environment where data are shared and available at the point of need. These activities provide opportunities for addressing gaps identified through assessments and innovation in business processes and technology, including lessons learned from pilots or shared activities. As such, agencies must include appropriate analyses of these considerations in agency annual strategic plans, as required by OMB Circular A-11 and any supplementary direction from OMB during the budget process. These plans will be reviewed by OMB to inform and shape actions necessary to support Hi-Def implementation and maintenance.

Planning and Budgeting—To assist agencies in ensuring acquisition data interoperability is appropriately considered in agency-wide strategic planning and budgeting, each year, OFPP will provide a template with questions and structure for compiling the strategic plan. The template will include sections for responding to questions related to acquisition data resources and infrastructure, government-wide priorities established by OMB and governance groups, and agency-specific priorities. The yearly priority areas will be posted with an updated template on the Acquisition.gov Data Initiatives Page.¹² The acquisition data resources and infrastructure questions will generally address the following areas, though may include other areas of interest as appropriate:

¹² https://www.acquisition.gov/datainitiatives.

a. Appropriate resource management activities necessary to support innovative practices and alignment of data with statutes, regulations, policies, and standards to support interoperability. The identification of activities should be accomplished in coordination with the appropriate agency leaders directing the acquisition, information, security, data, finance, and human capital functions.

b. Solutions identified by the agency workforce as the greatest opportunity for improving processes and leveraging technology to support innovation and reduce burden. Such ideas support agency operations and mission success by addressing issues, challenges, and best practices identified by those most impacted on a daily basis by access (or lack thereof) to data and information.

c. Details on how agencies are assuring any new technologies at the agency level are aligned with policy and regulations, and how agency technology supports the interoperability of data in the federated model established through this Circular.

d. Recommendations on any business processes that should be re-engineered to support innovation or just-in-time access to quality information or data. Re-imagining the process before applying emerging technologies or shared tools can lead to a more impactful change; this can be done by seeking workforce input, taking maximum advantage of FAR flexibilities, leveraging data and information technology as strategic assets, consulting with governance on how data is supposed to be used and displayed, and driving changes to agency-specific requirements.

Initial projects. Initial projects will focus on electronic invoicing (e.g., Invoice Processing Platform (IPP) and G-Invoicing), and the collection of transactional pricing data. Additional and future Hi-Def projects to implement this policy will generally be identified through an annual strategic planning process, as described in section 3 of the Circular and this Appendix.

[FR Doc. 2023-25370 Filed 11-16-23; 8:45 am]

BILLING CODE 3110-01-P